EXPORT-IMPORT BANK OF THE UNITED STATES

Economic Impact Policy

This notice is to inform the public that the Export-Import Bank of the United States has received an application for a $453 million direct loan to support the U.S. export of approximately $372 million worth of mining equipment and services for a mining project in the Dominican Republic. The U.S. exports will enable the company in the Dominican Republic to produce approximately 28.35 metric tons of gold and 140 metric tons of silver per year on average during the 11-year repayment term of the loan. Available information indicates that most of this new gold and silver production will be sold internationally. Interested parties may submit comments on this transaction by e-mail to economic.impact@exim.gov or by mail to 811 Vermont Avenue, NW., Room 1238, Washington, DC 20571, within 14 days of the date this notice appears in the Federal Register.

Helene S. Walsh,
Vice-President, Policy Analysis Division.

[FR Doc. E9-1164 Filed 1-21-09; 8:45 am]

BILLING CODE 6690-01-P